DEPARTMENT OF ENERGY

Federal Energy Regulatory Commission

[Project No. 12966-004]

Utah Board of Water Resources; Notice of Application Tendered for Filing With the Commission and Establishing Procedural Schedule for Licensing and Deadline for Submission of Final Amendments

Take notice that the following hydroelectric application has been filed with the Commission and is available for public inspection.

a. Type of Application: Major Unconstructed License.

b. Project No.: 12966-004.

c. Date Filed: May 2, 2016.

d. Applicant: Utah Board of Water Resources.

e. Name of Project: Lake Powell Pipeline Project.

f. Location: In Washington and Kane counties, Utah, and in Coconino and Mohave counties, Arizona. The project would occupy 449 acres of federal land managed by the Bureau of Land Management.

g. Filed Pursuant to: Federal Power Act, 16 U.S.C. 791(a)-825(r).

h. Applicant Contact: Bill Leeflang, Project Manager, Utah Division of Water Resources; Telephone (801) 538-7293 or billleeflang@utah.gov.

i. FERC Contact: Jim Fargo, (202) 502-6095 or james.fargo@ferc.gov.

j. This application is not ready for environmental analysis at this time.

k. The proposed Lake Powell Pipeline Project would consist of: (1) 140 miles of 69-inch-diameter pipeline and penstock, (2) a combined conventional peaking and pumped storage hydro station, (3) four conventional in-pipeline hydro stations, (4) a conventional hydro station, and (4) transmission lines.

The proposed project's water intake would convey water from the Bureau of Reclamation's Lake Powell up to a high point within the Grand Staircase-Escalante National Monument, after which it would flow through a series of hydroelectric turbines, ending at Sand Hollow reservoir, near St. George, Utah.

The energy generation components of the proposed project would include: (1) An inline single-unit, 1-megawatt (MW) facility at Hydro Station 1 in the Grand Staircase-Escalante National Monument; (2) an inline single-unit, 1.7-MW facility at Hydro Station 2 east of Colorado City, Arizona; (3) an inline single-unit, 1-MW facility in Hildale City, Utah; (4) an inline single-unit, 1.7-MW facility above the Hurricane Cliffs forebay reservoir; (5) a 2-unit, 300-MW (150-MW each unit) hydroelectric pumped storage development at Hurricane Cliffs, with the forebay and afterbay sized to provide ten hours of continuous 300-MW output; (6) a single-unit, 35-MW conventional energy recovery generation unit built within the Hurricane Cliffs development; and (7) a single-unit, 5-MW facility at the existing Sand Hollow Reservoir.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | January 2017.
Filing of recommendations, preliminary terms and conditions | March 2017.
Commission issues Draft Environmental Impact Statement (DEIS) | September 2017.
Comments on DEIS | November 2017.
Modified terms and conditions | January 2018.
Commission issues Final EIS | April 2018.

o. Final amendments to the application must be filed with the Commission no later than 30 days from the issuance date of the notice of ready for environmental analysis.

Dated: May 6, 2016.
Kimberly D. Bose,
Secretary.

[FR Doc. 2016-11226 Filed 5-11-16; 8:45 am]

BILLING CODE 6717-01-P